DEPARTMENT OF COMMERCE

Foreign-Trade Zones Board

[B-24-2022]

Foreign-Trade Zone (FTZ) 61—San Juan, Puerto Rico; Notification of Proposed Production Activity; Boehringer Ingelheim Animal Health Puerto Rico LLC (Pharmaceutical Products/Canine); Barceloneta, Puerto Rico

Boehringer Ingelheim Animal Health Puerto Rico LLC (Boehringer Ingelheim) submitted a notification of proposed production activity to the FTZ Board (the Board) for its facility in Barceloneta, Puerto Rico within FTZ 61. The notification conforming to the requirements of the Board's regulations (15 CFR 400.22) was received on June 7, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include finished (packaged) and semi-finished (unpackaged) antiparasitic chewable tablets for canines (duty rate is duty-free).

The proposed foreign-status materials and components include afoxolaner, milbemycin oxime, plastic film for packaging, and plastic bags/pouches for packaging (duty rate ranges from 3.0 to 6.5%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is July 25, 2022.

A copy of the notification will be available for public inspection in the “Online FTZ Information System” section of the Board's website.

For further information, contact Juanita Chen at juanita.chen@trade.gov.

Dated: June 9, 2022.
Andrew McGilvray,
Executive Secretary.

[FR Doc. 2022-12901 Filed 6-14-22; 8:45 am]

BILLING CODE 3510-DS-P